DEPARTMENT OF ENERGY

Federal Energy Regulatory Commission

Combined Notice of Filings #1

Take notice that the Commission received the following electric corporate filings:

Docket Numbers: EC17-5-000.

Applicants: Rush Springs Wind Energy, LLC.

Description: Application for Authorization Under Section 203 of the Federal Power Act and Request for Expedited Action of Rush Springs Wind Energy, LLC.

Filed Date: 10/7/16.

Accession Number: 20161007-5076.

Comments Due: 5 p.m. ET 10/28/16.

Docket Numbers: EC17-6-000.

Applicants: Ninnescah Wind Energy, LLC, Kingman Wind Energy I, LLC, Kingman Wind Energy II, LLC.

Description: Application for Authorization Under Section 203 of the Federal Power Act and Request for Expedited Action of Ninnescah Wind Energy, LLC, et al.

Filed Date: 10/7/16.

Accession Number: 20161007-5167.

Comments Due: 5 p.m. ET 10/28/16.

Take notice that the Commission received the following exempt wholesale generator filings:

Docket Numbers: EG17-3-000.

Applicants: Clinton Battery Utility, LLC.

Description: Notice of Self-Certification of Exempt Wholesale Generator Status of Clinton Battery Utility, LLC.

Filed Date: 10/7/16.

Accession Number: 20161007-5033.

Comments Due: 5 p.m. ET 10/28/16.

Docket Numbers: EG17-4-000.

Applicants: CXA Sundevil Power I, Inc.

Description: Notice of Self-Certification as an Exempt Wholesale Generator of CXA Sundevil Power I, Inc.

Filed Date: 10/7/16.

Accession Number: 20161007-5050.

Comments Due: 5 p.m. ET 10/28/16.

Docket Numbers: EG17-5-000.

Applicants: CXA Sundevil Power II, Inc.

Description: Notice of Self-Certification as an Exempt Wholesale Generator of CXA Sundevil Power II, Inc.

Filed Date: 10/7/16.

Accession Number: 20161007-5052.

Comments Due: 5 p.m. ET 10/28/16.

Take notice that the Commission received the following electric rate filings:

Docket Numbers: ER17-39-000.

Applicants: Pacific Gas and Electric Company.

Description: § 205(d) Rate Filing: Balancing Account Update 2017 (TRBAA, RSBA, ECRBAA) to be effective 1/1/2017.

Filed Date: 10/6/16.

Accession Number: 20161006-5133.

Comments Due: 5 p.m. ET 10/27/16.

Docket Numbers: ER17-40-000.

Applicants: California Independent System Operator Corporation.

Description: § 205(d) Rate Filing: 2016-10-06 Removal of Flexible Ramping Constraint Tariff Amendment to be effective 11/1/2016.

Filed Date: 10/6/16.

Accession Number: 20161006-5138.

Comments Due: 5 p.m. ET 10/27/16.

Docket Numbers: ER17-41-000.

Applicants: MATL LLP.

Description: Compliance filing: MATL Attachment N Compliance Filing to be effective 10/14/2016.

Filed Date: 10/7/16.

Accession Number: 20161007-5032.

Comments Due: 5 p.m. ET 10/28/16.

Docket Numbers: ER17-42-000.

Applicants: Consumers Energy Company, CMS Energy Resource Management Company.

Description: Application for Waiver of Affiliate Restrictions of Consumers Energy Company, et al.

Filed Date: 10/6/16.

Accession Number: 20161006-5154.

Comments Due: 5 p.m. ET 10/27/16.

Docket Numbers: ER17-43-000.

Applicants: Portal Ridge Solar B, LLC.

Description: Baseline eTariff Filing: Baseline new to be effective 11/4/2016.

Filed Date: 10/7/16.

Accession Number: 20161007-5140.

Comments Due: 5 p.m. ET 10/28/16.

Docket Numbers: ER17-44-000.

Applicants: Portal Ridge Solar C, LLC.

Description: Baseline eTariff Filing: Baseline new to be effective 11/4/2016.

Filed Date: 10/7/16.

Accession Number: 20161007-5143.

Comments Due: 5 p.m. ET 10/28/16.

Docket Numbers: ER17-45-000.

Applicants: Midcontinent Independent System Operator, Inc. ALLETE, Inc.

Description: § 205(d) Rate Filing: 2016-10-07_SA 2958 Manibtoba Hydro-Minnesota Power T-TIA (Dorsey-Iron Range) to be effective 12/31/9998.

Filed Date: 10/7/16.

Accession Number: 20161007-5145.

Comments Due: 5 p.m. ET 10/28/16.

Docket Numbers: ER17-46-000.

Applicants: PJM Interconnection, L.L.C.

Description: § 205(d) Rate Filing: Queue Position AA2-085, Original Service Agreement Nos. 4538, 4539 to be effective 9/7/2016.

Filed Date: 10/7/16.

Accession Number: 20161007-5157.

Comments Due: 5 p.m. ET 10/28/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 7, 2016.
Nathaniel J. Davis, Sr.,
Deputy Secretary.

[FR Doc. 2016-24990 Filed 10-14-16; 8:45 am]

BILLING CODE 6717-01-P